OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: M. Lamary, Group Manager, Executive Resources Services Group, Center for Human Resources, Division for Human Capital Leadership and Merit System Accountability, 202-606-2246.

SUPPLEMENTARY INFORMATION: Appearing in the listing below are the individual authorities established under Schedules A, B, and C between July 1, 2008, and July 30, 2008. Future notices will be published on the fourth Tuesday of each month, or as soon as possible thereafter. A consolidated listing of all authorities as of July 30 is published each year.

Schedule A

No Schedule A appointments were approved for July 2008.

Schedule B

No Schedule B appointments were approved for July 2008.

Schedule C

The following Schedule C appointments were approved during July 2008.

Section 213.3303 Executive Office of the President

Office of National Drug Control Policy

QQGS80011 Confidential Assistant to the Chief of Staff. Effective July 08, 2008.

QQGS80013 Confidential Assistant to the Associate Director for Public Affairs. Effective July 25, 2008.

QQGS80012 Deputy Press Secretary to the Associate Director for Public Affairs. Effective July 29, 2008.

Section 213.3304 Department of State

DSGS69750 Protocol Officer to the Foreign Affairs Officer (Ceremonials). Effective July 15, 2008.

DSGS69752 Senior Advisor to the Director. Effective July 24, 2008.

DSGS69751 Staff Assistant to the Senior Advisor to the Secretary and White House Liaison. Effective July 29, 2008.

Section 213.3305 Department of the Treasury

DYGS00407 Senior Advisor to the Assistant Secretary for Financial Markets. Effective July 10, 2008.

Section 213.3306 Department of Defense

DDGS17164 Defense Fellow to the Special Assistant to the Secretary of Defense for White House Liaison. Effective July 14, 2008.

DDGS17166 Special Assistant to the Special Assistant to the Secretary of Defense for White House Liaison. Effective July 21, 2008.

DDGS17169 Defense Fellow to the Special Assistant to the Secretary of Defense for White House Liaison. Effective July 28, 2008.

Section 213.3307 Department of the Army

DWGS00097 Special Assistant to the Deputy Assistant Secretary of the Army (Environment, Safety and Occupational Health) to the Deputy Assistant Secretary of the Army (Environment, Safety and Occupational Health). Effective July 03, 2008.

Section 213.3310 Department of Justice

DJGS00134 Confidential Assistant to the Assistant Attorney General, Office of Justice Programs. Effective July 10, 2008.

DJGS00379 Special Assistant to the Director, Office of Public Affairs. Effective July 17, 2008.

DJGS00175 Public Affairs Specialist to the Director, Office of Public Affairs. Effective July 18, 2008.

DJGS00139 Special Assistant to the Director, Community Relations Service. Effective July 23, 2008.

DJGS00197 Press Assistant to the Director, Office of Public Affairs. Effective July 25, 2008.

Section 213.3311 Department of Homeland Security

DMGS00758 Associate Director to the Assistant Secretary for Legislative Affairs. Effective July 03, 2008.

DMGS00651 Press Assistant to the Press Secretary. Effective July 15, 2008.

DMGS00681 Assistant Press Secretary to the Deputy Assistant Secretary for Media Relations. Effective July 15, 2008.

DMGS00694 Confidential Assistant to the General Counsel. Effective July 16, 2008.

Section 213.3312 Department of the Interior

DIGS00116 Special Assistant (Communications and Legislation) to the Deputy Commissioner (Director of External and Intergovernmental Affairs). Effective July 07, 2008.

DIGS01129 Chief of Staff to the Deputy Secretary of the Interior. Effective July 16, 2008.

DIGS01128 Counselor to the Assistant Secretary—Water and Science to the Assistant Secretary for Water and Science. Effective July 24, 2008.

Section 213.3314 Department of Commerce

DCGS00500 Public Affairs Specialist to the Director of Public Affairs. Effective July 03, 2008.

DCGS00506 Public Affairs Specialist to the Director of Public Affairs. Effective July 03, 2008.

DCGS00576 Deputy Director of Advance to the Director of Advance. Effective July 03, 2008.

DCGS60392 Confidential Assistant to the Assistant Secretary and Director General of United States/For Commercial Services. Effective July 03, 2008.

DCGS00358 Chief of Staff for International Trade Administration to the Under Secretary for International Trade. Effective July 18, 2008.

DCGS00424 Director, Office of Legislative Affairs to the Under Secretary Oceans and Atmosphere (Administrator National Oceanic and Atmospheric Administration). Effective July 24, 2008.

DCGS00472 Confidential Assistant to the Executive Director for Trade Promotion and Outreach. Effective July 24, 2008.

DCGS00570 Senior Advisor to the Coordinator to the Coordinator for International Intellectual Property Enforcement. Effective July 24, 2008.

DCGS00520 Special Assistant to the Assistant Secretary for Market Access and Compliance. Effective July 25, 2008.

DCGS00608 Confidential Assistant to the Director, Office of Legislative Affairs. Effective July 25, 2008.

DCGS00619 Confidential Assistant to the Assistant Secretary for Economic Development. Effective July 25, 2008.

DCGS00546 Special Assistant to the Deputy Secretary. Effective July 29, 2008.

DCGS00628 Confidential Assistant to the Director of Advance. Effective July 29, 2008.

Section 213.3315 Department of Labor

DLGS60251 Deputy Director of Scheduling to the Chief of Staff. Effective July 03, 2008.

DLGS60245 Staff Assistant to the Associate Deputy Secretary. Effective July 22, 2008.

DLGS60267 Staff Assistant to the Director of Planning, Scheduling, and Advance. Effective July 29, 2008.

Section 213.3316 Department of Health and Human Services

DHGS60082 Health Attache to the Director, Office of Global Health Affairs. Effective July 18, 2008.

DHGS60080 Special Assistant to the Deputy General Counsel. Effective July 22, 2008.

DHGS60550 Senior Advisor to the Assistant Secretary, Health. Effective July 25, 2008.

Section 213.3317 Department of Education

DBGS00250 Confidential Assistant (Faith Based and Community Initiatives) to the Director, Faith-Based and Community Initiatives Center. Effective July 03, 2008.

DBGS00276 Confidential Assistant to the Chief of Staff. Effective July 10, 2008.

DBGS00506 Confidential Assistant to the Assistant Deputy Secretary for Safe and Drug-Free Schools. Effective July 15, 2008.

Section 213.3318 Environmental Protection Agency

EPGS08009 Executive Producer to the Deputy Chief of Staff (Operations). Effective July 09, 2008.

Section 213.3327 Department of Veterans Affairs

DVGS60076 Special Assistant (White House Liaison) to the Secretary of Veterans Affairs. Effective July 10, 2008.

Section 213.3331 Department of Energy

DEGS00668 Deputy Director, Public Affairs to the Director, Public Affairs. Effective July 03, 2008.

DEGS00669 Senior Policy Advisor to the Under Secretary for Science. Effective July 15, 2008.

DEGS00672 Policy Advisor to the Assistant Secretary of Energy (Nuclear Energy). Effective July 22, 2008.

DEGS00670 Special Assistant to the Assistant Secretary for Congressional and Intergovernmental Affairs. Effective July 29, 2008.

DEGS00671 Special Assistant to the Assistant Secretary for Congressional and Intergovernmental Affairs. Effective July 29, 2008.

Section 213.3332 Small Business Administration

SBGS00667 Senior Speechwriter to the Assistant Administrator for Communications and Public Liaison. Effective July 24, 2008.

Section 213.3337 General Services Administration

GSGS00180 Special Assistant to the Associate Administrator for Congressional and Intergovernmental Affairs. Effective July 28, 2008.

Section 213.3344 Occupational Safety and Health Review Commission

SHGS00002 Confidential Assistant to the Commission Member (Chairman). Effective July 25, 2008.

Section 213.3384 Department of Housing and Urban Development

DUGS60212 Staff Assistant to the General Deputy Assistant Secretary for Congressional and Intergovernmental Relations. Effective July 11, 2008.

DUGS60065 Special Assistant to the Secretary, Housing and Urban Development. Effective July 22, 2008.

Section 213.3394 Department of Transportation

DTGS60258 Associate Director for Governmental Affairs to the Assistant Secretary for Governmental Affairs. Effective July 11, 2008.

DTGS60358 Special Assistant for Scheduling and Advance to the Director for Scheduling and Advance. Effective July 11, 2008.

DTGS60384 Assistant to the Secretary for Policy to the Chief of Staff. Effective July 11, 2008.

DTGS60291 Associate Director for Governmental Affairs to the Assistant Secretary for Governmental Affairs. Effective July 17, 2008.

DTGS60450 Deputy Director for Scheduling and Advance to the Director for Scheduling and Advance. Effective July 18, 2008.

Authority: 5 U.S.C. 3301 and 3302; E.O. 10577, 3 CFR 1954-1958 Comp., p. 218.

U.S. Office of Personnel Management.
Howard Weizmann,
Deputy Director.

[FR Doc. E8-22519 Filed 9-24-08; 8:45 am]

BILLING CODE 6325-39-P